DEPARTMENT OF HOMELAND SECURITY

Coast Guard

33 CFR Part 165

[Docket No. USCG-2010-0505]

Safety Zone, Long Island Sound Annual Fireworks Displays

AGENCY: Coast Guard, DHS.

ACTION: Notice of enforcement of regulation.

SUMMARY: The Coast Guard will enforce annual fireworks display safety zones for thirteen fireworks displays taking place throughout the Sector Long Island Sound Captain of the Port Zone. This action is necessary to protect marine traffic and spectators from the hazards created by fireworks displays. During the enforcement period, no person or vessel may enter the safety zone without permission of the Captain of the Port.

DATES: The regulations in 33 CFR 165.151 will be enforced from 8:30 p.m. until 10:30 p.m. during the dates specified in Table 1. If the event is delayed by inclement weather, these regulations will also be enforced on the rain dates listed in Table 1.

Table 1
Event: Village of Asharoken Fireworks.
Date: July 04, 2010.
Rain date: July 05, 2010.
Event: Southampton Fresh Air Home Fireworks.
Date: July 02, 2010.
Rain date: July 03, 2010.
Event: Mashantucket Pequot Fireworks.
Date: July 10, 2010.
Rain date: July 11, 2010.
Event: Madison Cultural Arts Fireworks.
Date: July 02, 2010.
Rain date: July 10, 2010.
Event: Vietnam Veterans Town of East Haven Fireworks.
Date: June 27, 2010.
Rain date: June 28, 2010.
Event: Westbrook CT July Celebration.
Date: July 05, 2010.
Rain date: July 06, 2010.
Event: Town of Branford Fireworks.
Date: June 26, 2010.
Rain date: None.
Event: Westport Police Athletic League Fireworks.
Date: July 02, 2010.
Rain date: July 06, 2010.
Town of Stratford Fireworks.
Date: July 03, 2010.
Rain date: July 05, 2010.
Event: Norwalk Fireworks.
Date: July 03, 2010.
Rain date: July 05, 2010.
Event: City of Rowayton Fireworks.
Date: July 04, 2010.
Rain date: July 05, 2010.
Event: Groton Long Point yacht Club Fireworks.
Date: July 17, 2010.
Rain date: July 18, 2010.
Event: Riverfest Fireworks.
Date: July 17, 2010.
Rain date: July 11, 2010.

FOR FURTHER INFORMATION CONTACT: If you have questions on this notice, call or e-mail Petty Officer Joseph Graun, Prevention Department, Coast Guard Sector Long Island Sound (203) 468 4454 joseph.l.graun@uscg.mil.

SUPPLEMENTARY INFORMATION: The Coast Guard will enforce safety zones for all Long Island Sound annual fireworks displays found in 33 CFR 165.151 on the dates listed in Table 1 from 8:30 p.m. until 10:30 p.m. Under the provisions of 33 CFR 165.151, a vessel may not enter, remain in or transit through the regulated area, unless it receives permission from the COTP or designated Coast Guard patrol personnel on scene. The Coast Guard may be assisted by other Federal, State, or local law enforcement agencies in enforcing this regulation.

This notice is issued under authority of 33 CFR 165.151 and 5 U.S.C. 552 (a). In addition to this notice in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: June 7, 2010.
Daniel A. Ronan,
Captain, U.S. Coast Guard, Captain of the Port Long Island Sound.

[FR Doc. 2010-15146 Filed 6-22-10; 8:45 am]

BILLING CODE 9110-04-P